DEPARTMENT OF AGRICULTURE

National Agricultural Library

Notice of Intent to Seek Approval To Collect Information

AGENCY: USDA, Agricultural Research Service, National Agricultural Library.

ACTION: Notice and request for comments.

SUMMARY: This notice announces the National Agricultural Library's (NAL) intent to request the approval of the Food Safety Education and Training Materials Sharing form from people who work in the food safety education and training fields.

DATES: Comments on this notice must be received by June 16, 2010 to be assured of consideration.

ADDRESSES: Address all comments concerning this notice to Tara Smith, U.S. Department of Agriculture, National Agricultural Library, 10301 Baltimore Avenue, Room #304, Beltsville, Maryland 20705. Comments may be sent by fax to (301) 504-7680, or by e-mail to tara.smith@ars.usda.gov.

FOR FURTHER INFORMATION CONTACT: Tara Smith, telephone (301) 504-5515.

SUPPLEMENTARY INFORMATION: Title: Food Safety Education and Training Materials Sharing Form.

Authority: Pub. L. 104-13; 5 CFR Part 1320 (60 FR 44978, August 29, 1995).

OMB Number: 0518-XXXX.

Expiration Date: Three years from the date of approval.

Type of Request: Approval for data collection from individuals working in the areas of food safety education and training.

Abstract: The Food Safety Education and Training Materials Sharing form contains three sections and is used to collect information about materials developed to support food safety education (e.g. DVDs, posters, curriculum, kits) for inclusion in NAL's Food Safety Education and Training Materials Database. The questionnaire collects the name and email address of the person submitting the form, information on the resource/education material developed (e.g. title, target audience focus, a description, publisher/distributor information and information on the author) to determine if a readability formula was used or if the project is associated with a grant or other funded mechanism.

Estimate of Burden: Public reporting burden for this collection of information is estimated to average 15 minutes per respondent.

Respondents: Individuals working in the areas of food safety education and training.

Estimated Number of Respondents: 35 per year.

Estimated Total Annual Burden on Respondents: 525 minutes or 8.75 hours.

Comments are invited on (a) whether the proposed collection of information is necessary for the proper performance of the functions of the Agency, including whether the information will have practical utility; (b) the accuracy of the Agency's estimate of the burden of the proposed collection of information, including the validity of the methodology and the assumptions used; (c) ways to enhance the quality, utility, and clarity of the information to be collected; and (d) ways to minimize the burden of the collection of information on those who respond, including the use of appropriate automated, electronic, mechanical, or other technology. Comments should be sent to the address in the preamble. All responses to this notice will be summarized and included in the request for OMB approval. All comments will become a matter of public record.

Dated: March 18, 2010.
Caird E. Rexroad, Jr.,
Associate Administrator, ARS.

[FR Doc. 2010-8258 Filed 4-9-10; 8:45 am]

BILLING CODE 3410-03-P